DEPARTMENT OF ENERGY

Federal Energy Regulatory Commission

Combined Notice of Filings #1

Take notice that the Commission received the following electric corporate filings:

Docket Numbers: EC06-129-005.

Applicants: Capital Research and Management Company.

Description: Request for Amended Order Under Section 203 of the Federal Power Act of Capital Research and Management Company, et. al.

Filed Date: 11/28/12.

Accession Number: 20121128-5025.

Comments Due: 5 p.m. ET 12/19/12.

Docket Numbers: EC13-48-000.

Applicants: NewPage Corporation, GS Funds.

Description: Joint Application of New Page Corporation, et. al. for Authorization Under Section 203 of the Federal Power Act and Request for Expedited Consideration.

Filed Date: 11/27/12.

Accession Number: 20121127-5264.

Comments Due: 5 p.m. ET 12/18/12.

Take notice that the Commission received the following electric rate filings:

Docket Numbers: ER12-2480-002.

Applicants: Alcoa Power Generating Inc.

Description: Refiling of Yadkin OATT—ER12-2480 to be effective 11/15/2012.

Filed Date: 11/19/12.

Accession Number: 20121119-5200.

Comments Due: 5 p.m. ET 12/10/12.

Docket Numbers: ER13-242-001.

Applicants: Midwest Independent Transmission System Operator, Inc.

Description: SA 2013 G586 2nd Amended GIA to be effective 11/1/2012.

Filed Date: 11/27/12.

Accession Number: 20121127-5237.

Comments Due: 5 p.m. ET 12/18/12.

Docket Numbers: ER13-413-002.

Applicants: USG Oregon LLC.

Description: Amended USGO Tariff Filing to be effective 1/17/2013.

Filed Date: 11/27/12.

Accession Number: 20121127-5120.

Comments Due: 5 p.m. ET 12/18/12.

Docket Numbers: ER13-464-000.

Applicants: Arizona Public Service Company.

Description: APS Service Agreement No. 324 Foothills Solar Project LGIA, Amendment 1 to be effective 11/30/2012.

Filed Date: 11/27/12.

Accession Number: 20121127-5135.

Comments Due: 5 p.m. ET 12/18/12.

Docket Numbers: ER13-465-000.

Applicants: New England Power Pool Participants Committee, ISO New England Inc.

Description: MR1 Rev. Rel. to Procurement of 10-Min. Non-Spinning Res in FRM to be effective 3/1/2013.

Filed Date: 11/27/12.

Accession Number: 20121127-5163.

Comments Due: 5 p.m. ET 12/18/12.

Docket Numbers: ER13-466-000.

Applicants: Shipley Choice, LLC.

Description: Initial Application for Market-Based Rate Authority to be effective 1/26/2013.

Filed Date: 11/27/12.

Accession Number: 20121127-5243.

Comments Due: 5 p.m. ET 12/18/12.

Docket Numbers: ER13-467-000.

Applicants: Southern California Edison Company.

Description: Amended SGIA and DSA to Sunshine Canyon Landfill Project to be effective 11/29/2012.

Filed Date: 11/28/12.

Accession Number: 20121128-5000.

Comments Due: 5 p.m. ET 12/19/12.

Docket Numbers: ER13-468-000.

Applicants: Footprint Power LLC.

Description: Request for Waiver of Footprint Power LLC.

Filed Date: 11/28/12.

Accession Number: 20121128-5056.

Comments Due: 5 p.m. ET 12/19/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2012.
Nathaniel J. Davis, Sr.,
Deputy Secretary.

[FR Doc. 2012-29346 Filed 12-4-12; 8:45 am]

BILLING CODE 6717-01-P